DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Government Performance and Results Act Client/Participant Outcome (OMB No. 0930-0208)—Revision

The mission of SAMHSA is to improve the effectiveness and efficiency of substance abuse and mental health treatment and prevention services across the United States. All of SAMHSA's activities are designed to ultimately reduce the gap in the availability of substance abuse and mental health services and to improve their effectiveness and efficiency.

Data currently are collected from all SAMHSA best practices and targeted capacity expansion grants and contracts where client outcomes are to be assessed at intake (or initial contact), 6 and 12 months post admission or post-intervention. SAMHSA-funded projects are required to submit these data as a contingency of their award. The analysis of the data will also help determine whether the goal of reducing health and social costs of drug use to the public is being achieved.

The primary purpose of this data collection activity is to meet the reporting requirements of the Government Performance and Results Act (GPRA) by allowing SAMHSA to quantify the effects and accomplishments of SAMHSA programs. In addition, the data will be useful in addressing goals and objectives outlined in ONDCP's Performance Measures of Effectiveness. The revision of this data collection affects only the Center for Substance Abuse Treatment (CSAT). The proposed revision will modify the CSAT services instrument to include new questions on family characteristics, specific services and social connectedness to align with the SAMHSA Administrator's seven domains for national outcomes measures. In addition, the data collection time points will change to intake, discharge, and 6 months post admission.

The following is the estimated annual response burden for this collection.

Center/No. of annual clients-participants | Responses per client/ participant | Hours per response | Total hours | Proportion of added burden | Total hour burden
CMHS
3,750 | 3 | .33 | 3,713 | 0.70 | 2,599
CSAP
12,150 | 3 | .33 | 12,029 | 0.72 | 8,661
CSAT
28,000* | 3 | .33 | 27,720 | 0.33 | 9,148
3,100** | 4*** | .33 | 4,092 | 0.33 | 1,350
9,800**** | 3 | .33 | 9,702 | 0.33 | 3,202
114,600**** | 1 | .10 | 11,460 | 0 | 0
16,570**** | 3 | .16 | 7,954 | 0 | 0
Subtotal 172,070 |  |  |  |  | 13,700
Total 187,970 |  |  |  |  | 24,960
Note: This is the maximum additional burden if all clients/participants complete three sets of items. CSAP and CSAT adolescent clients/participants do not usually receive all four data collections. Added burden proportion is an adjustment reflecting the extent to which programs typically already collect the data items. The formula for calculating the proportion of added burden is: Total number of items in the standard instrument minus the number of core GPRA items currently included divided by the total number of items in the standard instrument.
*Adults.
**Adolescents.
*** Four data collections for adolescents.
**** Screening, Brief Intervention, Treatment and Referral (SBIRT) grant program: 9,800 complete all GPRA sections; 114,600 complete sections A & H, all of these items are asked during the regular intake process resulting in zero burden; and 16,570 complete sections A, B, & H, all of these items are asked during the regular intake process resulting in zero burden.

Written comments and recommendations concerning the proposed information collection should be sent by April 21, 2005 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: March 16, 2005.
Patricia S. Bransford,
Acting Executive Officer, SAMHSA.

[FR Doc. 05-5568 Filed 3-21-05; 8:45 am]

BILLING CODE 4162-20-P